DEPARTMENT OF THE INTERIOR

National Park Service

[NPS-WASO-NAGPRA-NPS0037608; PPWOCRADN0-PCU00RP14.R50000]

Notice of Inventory Completion: Chicago Historical Society, Chicago, IL

AGENCY: National Park Service, Interior.

ACTION: Notice.

SUMMARY: In accordance with the Native American Graves Protection and Repatriation Act (NAGPRA), the Chicago Historical Society has completed an inventory of human remains and has determined that there is a cultural affiliation between the human remains and Indian Tribes or Native Hawaiian organizations in this notice.

DATES: Repatriation of the human remains in this notice may occur on or after April 19, 2024.

ADDRESSES: Jamie Lewis, Registrar, Chicago Historical Society, 1601 N Clark Street, Chicago, IL 60614, telephone (312) 799-2067, email jlewis@chicagohistory.org.

SUPPLEMENTARY INFORMATION: This notice is published as part of the National Park Service's administrative responsibilities under NAGPRA. The determinations in this notice are the sole responsibility of the Chicago Historical Society, and additional information on the determinations in this notice, including the results of consultation, can be found in the inventory or related records. The National Park Service is not responsible for the determinations in this notice.

Abstract of Information Available

Based on the information available, human remains representing one named individual have been reasonably identified. No associated funerary objects are present. The remains include a piece of skin taken from the back of Chief Cut Nose, whose Dakota name was Marpiya Okinajin. The piece of tanned skin is attached to a certificate. This was donated to the Chicago Historical Society by George S. Knapp in 1883. It is unknown how Knapp acquired the remains. It is known from the historical record that Marpiya Okinajin was one of the 38 Dakota men hanged in Mankato, MN in 1862 at the end of the U.S.-Dakota War and that his remains were removed from his place of burial in Mankato.

Cultural Affiliation

Based on the information available and the results of consultation, cultural affiliation is clearly identified by the information available about the human remains described in this notice.

Determinations

The Chicago Historical Society has determined that:

• The human remains described in this notice represent the physical remains of a named individual of Native American ancestry.

• There is a reasonable connection between the human remains described in this notice and the Lower Sioux Indian Community in the State of Minnesota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 19, 2024. If competing requests for repatriation are received, the Chicago Historical Society must determine the most appropriate requestor prior to repatriation. Requests for joint repatriation of the human remains are considered a single request and not competing requests. The Chicago Historical Society is responsible for sending a copy of this notice to the Indian Tribes and Native Hawaiian organizations identified in this notice.

Authority: Native American Graves Protection and Repatriation Act, 25 U.S.C. 3003, and the implementing regulations, 43 CFR 10.10.

Dated: March 11, 2024.
Melanie O'Brien,
Manager, National NAGPRA Program.

[FR Doc. 2024-05862 Filed 3-19-24; 8:45 am]

BILLING CODE 4312-52-P